ENVIRONMENTAL PROTECTION AGENCY

[FRL-7401-6]

Agency Information Collection Activities: Proposed Collection; Comment Request; National Estuary Program

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): National Estuary Program, EPA ICR Number 1500.05, OMB Control Number 2040-0138, expiring April 30, 2003. Before submitting the ICR to OMB for review and approval, EPA is soliciting comments on specific aspects of the proposed information collection as described below.

DATES: Comments must be submitted on or before December 30, 2002.

ADDRESSES: Comments should be sent to the Coastal Management Branch; Oceans and Coastal Protection Division (4504T); U.S. Environmental Protection Agency; 1200 Pennsylvania Ave., NW., Washington, DC 20460. Interested persons may obtain a copy of the ICR without charge by contacting the person identified below.

FOR FURTHER INFORMATION CONTACT: Darrell Brown at 202/566-1256 (phone); 202/566-1336 (facsimile); brown.darrell@epa.gov (e-mail) or Greg Colianni at 202/566-1249 (phone); 202/566-1336 (facsimile); colianni.gregory@epa.gov (e-mail).

SUPPLEMENTARY INFORMATION: Affected entities: Entities affected by this action are those State or local agencies or nongovernmental organizations that receive grants under section 320 of the Clean Water Act, the National Estuary Program (NEP). EPA provides grants to these entities to support 28 National Estuary Programs around the country and in Puerto Rico. Each entity receiving such a grant must submit an annual workplan that describes the projects and activities to be carried out using the section 320 funds and that documents the source of the 50% non-federal matching funds required by section 320. Every three years each NEP must also submit information about progress being made in implementing its comprehensive conservation and management plan (CCMP). Each entity must also submit annual Government Performance Results Act (GPRA) information.

Title: National Estuary Program (OMB control #2040-0138; ICR #1500.05) expiring April 30, 2003.

Abstract

Annual Workplans

The NEP involves collecting information from the State or local agency or nongovernmental organizations that receive funds under section 320 of the Clean Water Act. The regulation requiring this information is found at 40 CFR part 35. Prospective grant recipients seek funding to develop or oversee and coordinate implementation of CCMPs for estuaries of national significance. In order to receive funds, grantees must submit an annual workplan to EPA. The workplan consists of two parts: (a) Progress on projects funded previously; and (b) new projects proposed with dollar amounts and completion dates. The workplan is reviewed by EPA and also serves as the scope of work for the grant agreement. EPA also uses these workplans to track performance of each of the 28 estuary programs currently in the NEP.

Implementation Reviews

EPA provides funding to NEPs to support long-term implementation of CCMPs if such programs pass an implementation review process. Implementation reviews are used to determine progress each NEP is making in implementing its CCMP and achieving environmental results. In addition to evaluating progress, the results are used to identify areas of weakness each NEP should address for long-term success in protecting and restoring their estuaries. EPA will also compile successful tools and approaches as well as lessons learned from all implementation reviews to transfer to the NEPs and other watershed programs. For this ICR cycle, implementation reviews will be required for 9 programs in FY2004 and 19 programs in FY2005. No implementation reviews will be required in FY2003.

Government Performance Results Act

EPA requests that each of the 28 NEP receiving section 320 funds reports information that can be used in the GPRA reporting process. This reporting is done on an annual basis and is used to show environmental results that are being achieved within the overall NEP Program. This information is ultimately submitted to Congress along with GPRA information from other EPA programs.

An agency may not conduct or sponsor, and a person is not required to respond to, a collection of information unless it displays a currently valid OMB control number. The OMB control numbers for EPA's regulations are listed in 40 CFR part 9 and 48 CFR chapter 15.

Request for Comments

The EPA would like to solicit comments to:

(i) Evaluate whether the proposed collection of information is necessary for the proper performance of the functions of the agency, including whether the information will have practical utility;

(ii) evaluate the accuracy of the agency's estimate of the burden of the proposed collection of information; including the validity of the methodology and assumptions used;

(iii) enhance the quality, utility, and clarity of the information to be collected; and

(iv) minimize the burden of the collection of information on those who are to respond, including through the use of appropriate automated electronic, mechanical, technological collection techniques or other forms of information technology, e.g., permitting electronic submission of responses.

Burden Statement: The estimated burden for the 28 NEPs totals about 18,340 hours for the cycle 4/30/2003 to 4/30/2006 or about 6,113 hours/year on average. Total hours are based on the following estimates:

100 hours/annual workplan 28 NEPs = 2,800 hours/year; 3 years = 8,400 hours

250 hours/implementation review 9 NEPs = 2,250 hours/FY2004

250 hours/implementation review 19 NEPs = 4,750 hours/FY2005

35 hours/annual GPRA reporting 28 NEPs= 980 hours/year; 3 years = 2,940 hours

There is no anticipated cost burden for the NEPs to report the requested information. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. These burden estimates are for preparation of the annual workplans, implementation review reports, and GPRA reports.

Please send comments regarding these matters, or any other aspect of the information collection, including suggestions for reducing the burden, to the address listed above.

Dated: October 21, 2002.
Robert H. Wayland III,
Director, Office of Wetlands, Oceans and Watersheds.

[FR Doc. 02-27494 Filed 10-28-02; 8:45 am]

BILLING CODE 6560-50-P